POSTAL SERVICE

39 CFR Part 111

Addressing Standards

AGENCY: Postal Service™.

ACTION: Proposed rule; revision; additional comment period.

SUMMARY: The Postal Service is revising its pending proposal to amend Mailing Standards of the United States Postal Service, Domestic Mail Manual (DMM®) in various sections of Addressing, to update addressing standards.

DATES: Submit comments on or before March 24, 2021.

ADDRESSES: Mail or deliver written comments to the manager, Product Classification, U.S. Postal Service, 475 L'Enfant Plaza SW, Room 4446, Washington, DC 20260-5015. If sending comments by email, include the name and address of the commenter and send to PCFederalRegister@usps.gov, with a subject line of “Addressing Standards”. Faxed comments are not accepted.

Confidentiality

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review on Monday through Friday, 9 a.m.-4 p.m., by calling 202-268-2906.

FOR FURTHER INFORMATION CONTACT: James Wilson at (901) 681-4600, Kai Fisher at (901) 681-4634, or Garry Rodriguez at (202) 268-7281.

SUPPLEMENTARY INFORMATION: On September 22, 2020, the Postal Service published a notice of proposed rulemaking (85 FR 59484-59486) to update addressing standards. In response to that proposed rule, the mailing industry provided many valuable comments, which has prompted the Postal Service to issue a revised proposed rule with an additional comment period. The revised proposed rule will clarify our proposal to respond to mailer comments by clearly outlining the ways in which the proposal has changed.

Comments

Thirty-five formal responses were received. Several responses expressed concern that the change would create cost increases for lower volume mailers that currently process their lists quarterly and would be required to process more frequently, increasing the cost paid to mail service providers for address matching services. Several responses suggested the 60-day requirement should be increased to 95 days, which coincides with Move Update Standards. Other comments questioned the 60-day requirement from address matching to the mailing date with a product release that is still valid for use beyond that time frame. The remaining comments requested an extension of the comment period.

Background

Currently, DMM section 602.6.0, ZIP Code Accuracy Standards, provides that a ZIP Code™ may be used on a mail piece within 12 months after verified using a Postal Service approved method. Once a ZIP Code is used on a mailpiece, the address associated with that ZIP Code is considered to meet Postal Service addressing standards for an additional 12 months from the date first used in the mail.

DMM sections 602.7.0, Carrier Route Accuracy Standard, and 9.0, Coding Accuracy Support System (CASS), provide that Address Matching and Coding Update standards require coding to be performed within 90 days before the mailing date for carrier route mailings and 180 days for all non-carrier route mailings using the most current USPS database. The current product release schedule allows for use of a database that is valid for 105 days and may be used for an additional 6 months beyond that timeframe. As such, an address added or modified in the Postal Service database may not be updated on a mailer's mailing list for nearly 1 year after the change was made.

In 2012, the Postal Service implemented address management product fulfillment via an electronic product fulfillment method designed to provide subscription products to customers more efficiently. The database product updates are posted each month to a secure site where customers can log in to simply download the product files. A recent survey of licensed Address Management data products indicates that CASS and Multiline Accuracy Support System (MASS) Certified software and service providers are retrieving and using the monthly updates during the address matching and coding processes.

Proposal

The Postal Service proposed implementing a database product cycle that aligns with the release of other mailing products. This will provide consistency across all mailing products and the method by which the data files are available and distributed.

The suggestion to increase the 60-day requirement to coincide with the 95 days required for Move Update Standards is not within the scope of this proposal.

The updated proposed release schedule allows for 120 days of use and an overlap in dates for product use. Mailers that currently process their lists quarterly would still be compliant as long as they do not mail beyond the “last permissible mailing date” for the “product date” as shown in the USPS Product Cycle in Exhibit 9.3.1. Mailers will be expected to update their systems with the latest data files as soon as practicable and should not wait until the “last permissible use” date.

The Postal Service is proposing to implement this change effective July 1, 2021. However, mailers may opt to use the new monthly update cycles for both carrier route and non-carrier route mailings immediately.

We believe this proposed revision will provide customers with a more efficient process and will reduce the risk of using address information that is not current.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

602 Addressing

* * * * *

6.0 ZIP Code Accuracy Standards

6.1 Basic Standards

Except for mail bearing a simplified address, addresses used on pieces in a mailing at all commercial First-Class Mail, nonbarcoded presorted Periodicals, USPS Marketing Mail, Parcel Select Lightweight, and Bound Printed Matter presorted and carrier route prices are subject to the ZIP Code accuracy standard and must meet these requirements:

[Revise the text of items a and b to read as follows:]

a. Each address and associated 5-digit ZIP Code on the mailpieces in a mailing must be verified and corrected within 6 months before the mailing date with one of the USPS-approved methods in 6.2.

b. If an address used on a mailpiece in a mailing at one class of mail and price is verified and corrected with an approved method, the same address may be used during the following 6 months to meet the ZIP Code accuracy standard required for mailing at any other class of mail and price.

6.2 USPS—Approved Methods

The following methods meet the ZIP Code accuracy standard:

* * * * *

b. For manually maintained lists or small computerized lists, options include the following:

[Delete item b1 and renumber items b2 through b5 as items b1 through b4.]

* * * * *

7.0 Carrier Route Accuracy Standard

7.1 Basic Standards

* * * Addresses used on pieces claiming any Periodicals carrier route prices, any USPS Marketing Mail Enhanced Carrier Route prices (including DALs or DMLs used with Product Samples), or any Bound Printed Matter carrier route prices are subject to the carrier route accuracy standard and must meet the following requirements:

[Revise the text of item a to read as follows:]

a. Each address and associated carrier route code used on the mailpieces (or DALs or DMLs) in a mailing must be updated with one of the USPS-approved methods in 6.2 using a product release that is within the USPS Product Cycle as provided in Exhibit 9.3.1.

* * * * *

[Delete item c.]

* * * * *

9.0 Coding Accuracy Support System (CASS)

* * * * *

9.3 Date of Address Matching and Coding

9.3.1 Update Standards

[Revise the text of 9.3.1 to read as follows:]

Unless Z4CHANGE is used, all automation and carrier route mailings bearing addresses coded by any AIS product must be coded with current CASS-certified software and the current USPS database. Coding must be done using a product release that is within the USPS Product Cycle as provided in Exhibit 9.3.1. All AIS products may be used immediately on release. New product releases must be included in address matching systems no later than after the first of the month following the product date. The overlap in dates for product use allows mailers adequate time to install the new data files and test their systems. Mailers are expected to update their systems with the latest data files as soon as practicable and need not wait until the “last permissible use” date. The mailer's signature on the postage statement certifies that this standard has been met when the corresponding mail is presented to the USPS. The “current USPS database” product cycle is defined by the table in Exhibit 9.3.1.

[Delete current table under 9.3.1 and add new table as Exhibit 9.3.1 to read as follows:]

Exhibit 9.3.1 USPS Database Product Cycle
Release date (posted): Use of file released in | Product date: (Publish date) | Required use date: Must begin no later than . . . | Expiration date (last permissible use date): And must end no later than . . . | Last permissible mailing date
Mid-November | December 1 | January 1 | February 28/29 | March 31.
Mid-December | January 1 | February 1 | March 31 | April 30.
Mid-January | February 1 | March 1 | April 30 | May 31.
Mid-February | March 1 | April 1 | May 31 | June 30.
Mid-March | April 1 | May 1 | June 30 | July 31.
Mid-April | May 1 | June 1 | July 31 | August 31.
Mid-May | June 1 | July 1 | August 31 | September 30.
Mid-June | July 1 | August 1 | September 30 | October 31.
Mid-July | August 1 | September 1 | October 31 | November 30.
Mid-August | September 1 | October 1 | November 30 | December 31.
Mid-September | October 1 | November 1 | December 31 | January 31.
Mid-October | November 1 | December 1 | January 31 | February 28/29.

* * * * *

9.5 Documentation

* * * * *

9.5.5 Using a Single List

[Revise the text of 9.5.5 by deleting the last sentence.]

* * * * *

Joshua J. Hofer,
Attorney, Federal Compliance.

[FR Doc. 2020-29031 Filed 2-19-21; 8:45 am]

BILLING CODE P